DEPARTMENT OF EDUCATION

[Docket No.: ED-2018-ICCD-0092]

Agency Information Collection Activities; Comment Request; Comprehensive Literacy Program Evaluation: Striving Readers Implementation Study

AGENCY: Institute of Education Sciences (IES), Department of Education (ED).

ACTION: Notice.

SUMMARY: In accordance with the Paperwork Reduction Act of 1995, ED is proposing a new information collection.

DATES: Interested persons are invited to submit comments on or before November 9, 2018.

ADDRESSES: To access and review all the documents related to the information collection listed in this notice, please use http://www.regulations.gov by searching the Docket ID number ED-2018-ICCD-0092. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 550 12th Street SW, PCP, Room 9089, Washington, DC 20202-0023.

FOR FURTHER INFORMATION CONTACT: For specific questions related to collection activities, please contact Tracy Rimdzius, 202-245-7283.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Comprehensive Literacy Program Evaluation: Striving Readers Implementation Study.

OMB Control Number: 1850-NEW.

Type of Review: A new information collection.

Respondents/Affected Public: Individuals or Households; State, Local, and Tribal Governments.

Total Estimated Number of Annual Responses: 4,824.

Total Estimated Number of Annual Burden Hours: 2,082.

Abstract: The data collection described in this submission includes activities associated with the legislatively mandated evaluation of the Striving Readers Comprehensive Literacy (SRCL) program. The purpose of this evaluation is to provide information to policymakers, administrators, and educators regarding the implementation of the SRCL program, including grant award procedures, technical assistance, continuous improvement procedures, and literacy interventions at the school level. Data collection will include interviews with state-level grantees and district administrators; school principals, reading specialists, and teachers; and teacher surveys. In addition, the study team will conduct site visits to 50 schools and observe instruction in 100 classrooms using SRCL-funded literacy interventions, however the study team does not request clearance for these observations, which impose no burden. The study team also will collect and review grantee and subgrantee applications and comprehensive literacy plans.

Dated: September 4, 2018.
Stephanie Valentine,
Acting Director, Information Collection Clearance Division, Office of the Chief Privacy Officer, Office of Management.

[FR Doc. 2018-19466 Filed 9-7-18; 8:45 am]

BILLING CODE 4000-01-P